NUCLEAR REGULATORY COMMISSION

Sunshine Act Meeting Notice

Agency Holding the Meeting: Nuclear Regulatory Commission.

Date: Weeks of July 3, 10, 17, 24, 31, and August 7, 2000.

Place: Commissioners' Conference Room, 11555 Rockville Pike, Rockville, Maryland.

Status: Public and Closed.

Matters to be Considered:

Week of July 3

There are no meetings scheduled for the Week of July 3.

Week of July 10—Tentative

Monday, July 10

1:25 p.m.

Affirmation Session (Public Meeting)

a: Rulemaking to Modify the Event Reporting Requirements for Power Reactors in 10 CFR 50.72 and 50.73 and for Independent Spent Fuel Storage Installations (ISFSI) in 10 CFR 72.216

b: Final Rule: 10 CFR Parts 30, 31, and 32—“Requirements for Certain Generally Licensed Industrial Devices Containing Byproduct Material” and Related Change to the Enforcement Policy

c: Hydro Resources, Inc. Petition for Review of LBP-99-18, LBP-99-19, & LBP-99-30

1:30 p.m.

Briefing on Proposed Export of High Enriched Uranium to Canada (Public Meeting)

Tuesday, July 11

9:30 a.m.

Discussion of Intragovernmental Issues (Closed—Ex. 4 and 9)

Week of July 17—Tentative

There are no meetings scheduled for the Week of July 17.

Week of July 24—Tentataive

Tuesday, July 25

3:25 p.m.

Affirmation Session (Public Meeting) (If necessary)

Week of July 31—Tentative

There are no meetings scheduled for the Week of July 31.

Week of August 7—Tentative

There are no meetings scheduled for the Week of August 7.

Note: The schedule for Commission meetings is subject to change on short notice. To verify the status of meetings call (recording)—(301) 415-1292.

CONTACT PERSON FOR MORE INFORMATION: Bill Hill (301) 415-1661.

The NRC Commission Meeting Schedule can be found on the Internet at: http://www.nrc.gov/SECY/smj/schedule.htm.

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: June 30, 2000.
William M. Hill, Jr.,
SECY Tracking Officer, Office of the Secretary.

[FR Doc. 00-17067 Filed 6-30-00; 2:07 p.m]

BILLING CODE 7590-01-M